COMMISSION ON CIVIL RIGHTS

Notice of Public Meeting of the Tennessee Advisory Committee

AGENCY: U.S. Commission on Civil Rights.

ACTION: Notice of meeting.

SUMMARY: Notice is hereby given, pursuant to the provisions of the rules and regulations of the U.S. Commission on Civil Rights (Commission) and the Federal Advisory Committee Act that the Tennessee Advisory Committee will hold a public meeting on Friday, May 24, 2019; 1:30 p.m. to discuss Legal Financial Obligation (LFO) report.

DATES: The meeting will be held on Friday, May 24, 2019; 1:30 p.m. EST.

Dial-In Information: Teleconference 866-566-2308, Conference ID: 2359181.

For Additional Information Contact: Alejandro Ventura, DFO, at (213) 894-3437 or aventura@usccr.gov.

SUPPLEMENTARY INFORMATION: Members of the public are invited to come in and listen to the discussion. Written comments will be accepted until May 22, 2019 and may be mailed to the Regional Program Unit Office, U.S. Commission on Civil Rights, 230 S. Dearborn, Suite 2120, Chicago, IL 60604. They may also be faxed to the Commission at (312) 353-8324 or may be emailed to Alejandro Ventura at aventura@usccr.gov. Records of the meeting will be available via www.facadatabase.gov under the Commission on Civil Rights, Tennessee Advisory Committee link. Persons interested in the work of this Committee are directed to the Commission's website, http://www.usccr.gov, or may contact the Southern Regional Office at the above email or street address.

Agenda

• Opening Remarks

• New Business: Discussion of Legal Financial Obligation (LFO) report.

• Public Comments/Participation

Adjournment

Dated: May 6, 2019.
David Mussatt,
Supervisory Chief, Regional Programs Unit.

[FR Doc. 2019-09542 Filed 5-8-19; 8:45 am]

BILLING CODE P